DEPARTMENT OF DEFENSE

Department of the Army, Army Corps of Engineers

Notice of Availability of the Draft Feasibility Report and Integrated Environmental Impact Statement for the Adams and Denver Counties, Colorado General Investigation Study, Adams and Denver County, Colorado

AGENCY: Department of the Army, U.S. Army Corps of Engineers, DoD.

ACTION: Notice; extension of public comment deadline.

SUMMARY: The comment period for the Notice of Availability of the Draft Feasibility Report and Integrated Environmental Impact Statement for the Adams and Denver Counties, Colorado General Investigation Study, Adams and Denver County, Colorado published in the Federal Register on Monday, July 2, 2018, and required comments be postmarked on or before August 16, 2018. The Corps is extending the deadline for submitting public comments to August 28, 2018.

FOR FURTHER INFORMATION CONTACT: Mr. Jeffrey Bohlken, U.S. Army Corps of Engineers at (402) 995-2671 or by email at Jeffrey.C.Bohlken@usace.army.mil.

SUPPLEMENTARY INFORMATION: The Draft EIS can be downloaded from www.nwo.usace.army.mil/Missions/Civil-Works/Planning/Project-Reports/.

Brenda S. Bowen,
Army Federal Register Liaison Officer.

[FR Doc. 2018-15429 Filed 7-19-18; 8:45 am]

BILLING CODE 3720-58-P